DEPARTMENT OF ENERGY

Federal Energy Regulatory Commission

[Docket No. EF26-2-000]

Western Area Power Administration; Notice of Filing

Take notice that on January 23, 2026, Western Area Power Administration submitted a tariff filing: Sierra Nevada Region-Pacific Alternating Current Interie-Western Area Power Administration 211-20260122 to be effective April 1, 2026.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. On or before the comment date, it is not necessary to serve motions to intervene or protests on persons other than the Applicant.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

For public inquiries and assistance with making filings such as interventions, comments, or requests for rehearing, contact the Office of Public Participation at (202) 502-6595 or OPP@ferc.gov.

Comment Date: 5:00 p.m. Eastern Time on February 23, 2026.

Dated: January 28, 2026.
Debbie-Anne A. Reese,
Secretary.

[FR Doc. 2026-02036 Filed 1-30-26; 8:45 am]

BILLING CODE 6717-01-P